CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of Day of Service project promotion tool. Individuals organizing a volunteer event will be able to register their projects. This group includes national service grantees, corporations, volunteer organizations, and individuals. The Corporation wants to help promote activities across the country and also to be able to assess impact of the Corporation's initiatives. Information provided is purely voluntary and will not be used for any grant or funding support.

Copies of the information collection request can be obtained by contacting the office listed in the ADDRESSES section of this Notice.

DATES: Written comments must be submitted to the individual and office listed in the ADDRESSES section by January 5, 2015.

ADDRESSES: You may submit comments, identified by the title of the information collection activity, by any of the following methods:

(1) By mail sent to: Corporation for National and Community Service, Office of External Affairs; Attention: David Premo, Program Support Specialist, Room 10302-C; 1201 New York Avenue NW., Washington, DC, 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: David Premo, 202-606-6717, or by email at dpremo@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS seeks to support volunteer projects through service initiatives. The initiatives include Martin Luther King Jr. Day of Service, September 11th Day of Service and Remembrance, United We Serve, Let's Read-Let's Move, AmeriCorps Week, Senior Corps Week, and other public engagement and education efforts. To help promote activities and to ascertain impact of our initiatives, it is important to be aware of activities and projects taking place. Anyone participating in, or organizing project will be encouraged to register their project on our Web site. The information will be collected and stored securely on our computer network.

Current Action

CNCS seeks to renew the current information collection.

The information collection will also be used in the same manner as the existing application. CNCS also seeks to continue using the current application until the revised application is approved by OMB. The current application is due to expire on March 31, 2015.

Type of Review: Renewal.

Agency: Corporation for National and Community Service.

Title: Day of Service Project Promotion Tool.

OMB Number: 3045-0122.

Agency Number: None.

Affected Public: Any person or group organizing a service project in conjunction with a Corporation Initiative.

Total Respondents: 100,000.

Frequency: 6 times annually.

Average Time per Response: Averages 10 minutes.

Estimated Total Burden Hours: 66,667.

Total Burden Cost (capital/startup): None.

Total Burden Cost (operating/maintenance): None.

Comments submitted in response to this notice will be summarized and/or included in the request for Office of Management and Budget approval of the information collection request; they will also become a matter of public record.

Dated: October 31, 2014.
Theodore Miller,
Office of External Affairs.

[FR Doc. 2014-26384 Filed 11-5-14; 8:45 am]

BILLING CODE 6050-28-P